DEPARTMENT OF ENERGY

Federal Energy Regulatory Commission

[Docket No. AD10-12-012]

Increasing Market and Planning Efficiency Through Improved Software; Supplemental Notice of Technical Conference on Increasing Real-Time and Day-Ahead Market Efficiency Through Improved Software

As first announced in the Notice of Technical Conference issued in this proceeding on March 11, 2021, Commission staff will convene a technical conference on June 22, 23, and 24, 2021 to discuss opportunities for increasing real-time and day-ahead market efficiency of the bulk power system through improved software. Attached to this Supplemental Notice is an agenda for the technical conference and speakers' summaries of their presentations.

While the intent of the technical conference is not to focus on any specific matters before the Commission, some conference discussions might include topics at issue in proceedings that are currently pending before the Commission, including topics related to capacity valuation methodologies for renewable, hybrid, or storage resources. These proceedings include, but are not limited to:

PJM Interconnection, L.L.C. Docket No. ER20-584-000

PJM Interconnection, L.L.C. Docket No. EL19-100-000

PJM Interconnection, L.L.C. Docket Nos. ER21-278-000 and ER21-278-001

The conference will take place virtually via WebEx, with remote participation from both presenters and attendees. Further details on remote attendance and participation will be released prior to the conference. Attendees must register through the Commission's website on or before June 11, 2021.¹ WebEx connections may not be available to those who do not register.

¹ The attendee registration form is located at https://ferc.webex.com/ferc/onstage/g.php?MTID=e97c1ef8334b1f4db52394fe644edfe57. Click “Register” to be taken to the form.

The Commission will accept comments following the conference, with a deadline of July 30, 2021.

There is an “eSubscription” link on the Commission's website that enables subscribers to receive email notification when a document is added to a subscribed docket(s). For assistance with any FERC Online service, please email FERCOnlineSupport@ferc.gov, or call (866) 208-3676 (toll free). For TTY, call (202) 502-8659.

FERC conferences are accessible under section 508 of the Rehabilitation Act of 1973. For accessibility accommodations please send an email to accessibility@ferc.gov or call toll free (866) 208-3372 (voice) or (202) 502-8659 (TTY), or send a fax to (202) 208-2106 with the required accommodations.

For further information about these conferences, please contact:

Sarah McKinley (Logistical Information), Office of External Affairs, (202) 502-8004, Sarah.McKinley@ferc.gov.

Alexander Smith (Technical Information), Office of Energy Policy and Innovation, (202) 502-6601, Alexander.Smith@ferc.gov.

Dated: May 28, 2021.
Kimberly D. Bose,
Secretary.

[FR Doc. 2021-11780 Filed 6-3-21; 8:45 am]

BILLING CODE 6717-01-P